DEPARTMENT OF EDUCATION

[Docket ID ED-2022-FSA-0003]

Privacy Act of 1974; Matching Program

AGENCY: Federal Student Aid, Department of Education.

ACTION: Notice of a new Computer Matching Agreement (CMA).

SUMMARY: This document provides notice of a new CMA between the U.S. Department of Education (Department or ED) (recipient agency) and the Department of Homeland Security, U.S. Citizenship and Immigration Services (USCIS) (source agency). The current 18-month CMA was recertified for an additional 12 months on April 21, 2021, and will automatically expire on April 20, 2022.

DATES: Submit your comments on the proposed CMA on or before April 15, 2022.

The CMA will be effective on the later of: (1) April 21, 2022, or (2) 30 days after the publication of this notice on March 16, 2022, unless comments have been received from interested members of the public requiring modification or republication of the notice.

The CMA will continue for 18 months after the effective date of the CMA and may be extended for an additional 12 months thereafter, if the respective Data Integrity Boards (DIBs) of ED and USCIS determine that the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery:

If you mail or deliver your comments about this new CMA, address them to Gerard Duffey, Management and Program Analyst, Wanamaker Building, U.S. Department of Education, Federal Student Aid, 100 Penn Square East, Suite 509.B10, Philadelphia, PA 19107. Telephone: (215) 656-3249.

Privacy Note: The Department's policy is to make all comments received from members of the public available for public viewing in their entirety on the Federal eRulemaking Portal at www.regulations.gov. Therefore, commenters should be careful to include in their comments only information that they wish to make publicly available.

FOR FURTHER INFORMATION CONTACT: Gerard Duffey, Management and Program Analyst, Wanamaker Building, U.S. Department of Education, Federal Student Aid, 100 Penn Square East, Suite 509.B10, Philadelphia, PA 19107. Telephone: (215) 656-3249.

If you use a telecommunications device for the deaf (TDD) or a text telephone (TTY), call the Federal Relay Service (FRS), toll free, at 1-800-877-8339.

SUPPLEMENTARY INFORMATION: In accordance with 5 U.S.C. 552a (commonly known as the Privacy Act of 1974); Office of Management and Budget (OMB) Final Guidance Interpreting the Provisions of Public Law 100-503; the Computer Matching and Privacy Protection Act of 1988, 54 FR 25818 (June 19, 1989); and OMB Circular A-108, notice is hereby provided of the re-establishment of the matching program between ED and USCIS, prior notice of which was published in the Federal Register on September 13, 2019 (84 FR 48333).

Participating Agencies

ED and USCIS.

Authority for Conducting the Matching Program

The information contained in the USCIS database is referred to as the Verification Information System (VIS), which is authorized by section 274A(b) of the Immigration and Nationality Act, 8 U.S.C. 1324a(b). ED seeks access to the VIS for the purpose of confirming the immigration status of applicants for assistance, as authorized by section 484(g) of the HEA, 20 U.S.C. 1091(g), and consistent with the title IV student eligibility requirements of section 484(a)(5) of the HEA, 20 U.S.C. 1091(a)(5). USCIS is authorized to participate in this immigration status verification by section 103 of the Immigration and Nationality Act, 8 U.S.C. 1103.

Purpose(s)

The purpose of this matching program entitled “DHS-USCIS and the Department of Education Immigration Status Verification” is to permit ED to confirm the immigration status of alien applicants for, or recipients of, financial assistance under title IV of the Higher Education Act of 1965, as amended (HEA), as authorized by section 484(g) of the HEA (20 U.S.C. 1091(g)). The title IV, HEA programs that are covered by the agreement include: The Federal Pell Grant Program, the Teacher Education Assistance for College and Higher Education (TEACH) Grant Program, the Iraq and Afghanistan Service Grant Program, the Federal Perkins Loan Program, the Federal Work-Study Program, the Federal Supplemental Educational Opportunity Grant Program, and the William D. Ford Federal Direct Loan Program.

Categories of Individuals

The individuals included in this matching program are those who provide an Alien Registration Number (ARN) (also referred to as A-number or USCIS number) when completing the Free Application for Federal Student Aid (FAFSA) and have indicated that they are an “eligible noncitizen” to determine their eligibility for title IV, HEA program assistance.

Categories of Records

ED will provide to the DHS the ARN, Social Security number, first and last name, and date of birth of each applicant for financial assistance under title IV of the HEA who indicates that they are an “eligible noncitizen” and have provided their ARN in his or her application for financial assistance under title IV of the HEA.

System(s) of Records

ED system of Records: Federal Student Aid Application File (18-11-01), (76 FR 46774). DHS-USCIS system of records: Systematic Alien Verification for Entitlements (SAVE) System of Records, (81 FR 78619).

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

[FR Doc. 2022-05516 Filed 3-15-22; 8:45 am]

BILLING CODE 4000-01-P